DEPARTMENT OF DEFENSE

Office of the Secretary

Department of Defense Task Force on the Future of Military Health Care

AGENCY: Department of Defense.

ACTION: Notice of meeting.

SUMMARY: Pursuant to the Federal Advisory Committee Act of 1972 (5 U.S.C., Appendix, as amended), the Sunshine in the Government Act of 1976 (5 U.S.C. 552b, as amended) and 41 Code of Federal Regulations (CFR) 102-3.140 through 160, the Department of Defense announces the following committee meeting:

Name of Committee: Department of Defense Task Force on the Future of Military Health Care, a duly established subcommittee of the Defense Health Board.

Date of Meeting: September 19, 2007.

Time of Meeting:

8:30 a.m. to 8:50 a.m./Preparatory Work Meeting.

9 a.m. to 11:45 a.m./Public Hearing.

11:50 a.m. to 1 p.m./Four, concurrent Subcommittee Meeting(s).

1:15 p.m. to 4 p.m./Public Hearing.

6 p.m. to 7:30 p.m./Town Hall Public Meeting.

Place of Meeting: Founders Inn & Spa, 5641 Indian River Road, Virginia Beach, VA 23464.

Purpose of Meeting: To obtain, review, and evaluate information related to the Task Force's congressionally-directed mission to examine matters related to the future of military health care. The Task Force members will receive briefings on topics related to the delivery of military health care during the public meetings.

Agenda: Discussion topic will be key issues on the future of military health care.

Prior to the public meeting the Task Force will conduct a Preparatory Work Meeting from 8:30 a.m.-8:50 a.m. to solely analyze relevant issues and facts in preparation for the Task Force's next public meeting. In addition, the Task Force, following its public meeting, will conduct four, concurrent, Subcommittee Meetings from 11:45 a.m. to 1 p.m. to gather information, conduct research, and analyze relevant issues and facts in preparation for a future meeting of the Task Force.

The Preparatory Work Meeting will be held at the Founders Inn & Spa, and pursuant to 41 Code of Federal Regulations, § 102-3.160(a), the Preparatory Work Meeting is closed to the public. Additionally, the four, concurrent subcommittee meetings will also be held at the Founders Inn & Spa, and, pursuant to 41 CFR 102-3.35(a), 102-3.145 and 102-3.160(a), these subcommittee meetings are closed to the public.

Additional information and meeting registration is available online at the Task Force Web site: http://www.DoDfuturehealthcare.net.

FOR FURTHER INFORMATION CONTACT: Colonel Christine Bader, Executive Secretary, Department of Defense Task Force on the Future of Military Health Care, TMA/Code: DHS, Five Skyline Place, Suite 810, 5111 Leesburg Pike, Falls Church, Virginia 22041-3206. (703) 681-3279, ext. 109 (christine.bader@ha.osd.mil).

SUPPLEMENTARY INFORMATION: Open sessions of the meeting will be limited by space accommodations. Any interested person may attend; however, seating is limited to the space available at the Founders Inn & Spa. Individuals or organizations wishing to submit written comments for consideration by the Task Force should provide their comments in an electronic (PDF Format) document through the Task Force Web site (http://www.DoDfuturehealthcare.net) at the “Contact Us” page, no later than five (5) business days prior to the scheduled meeting.

Dated: August 13, 2007.
L. M. Bynum,
Alternate OSD Federal Register, Liaison Officer, Department of Defense.

[FR Doc. 07-4142 Filed 8-21-07; 11:32 am]

BILLING CODE 5001-06-M